SECURITIES AND EXCHANGE COMMISSION

[Release No. 34-89259; File No. SR-CboeBYX-2020-005]

Self-Regulatory Organizations; Cboe BYX Exchange, Inc.; Notice of Withdrawal of a Proposed Rule Change To Amend Certain Rules Within Rules 4.5 Through 4.16, Which Contains the Exchange's Compliance Rule Regarding the National Market System Plan Governing the Consolidated Audit Trail (“CAT NMS Plan”), To Be Consistent With Certain Proposed Amendments to and Exemptions From the CAT NMS Plan as Well as To Facilitate the Retirement of Certain Existing Regulatory Systems

July 8, 2020.

On January 22, 2020, Cboe BYX Exchange, Inc. (“Exchange” or “BYX”) filed with the Securities and Exchange Commission (“Commission”), pursuant to Section 19(b)(1) of the Securities Exchange Act of 1934 (“Act”),¹ and Rule 19b-4 thereunder,² a proposed rule change to amend the Exchange's compliance rule regarding the National Market System Plan Governing the Consolidated Audit Trail. The proposed rule change was published for comment in the Federal Register on February 5, 2020.³ On March 20, 2020, the Commission extended the time period within which to approve the proposed rule change, disapprove the proposed rule change, or institute proceedings to determine whether to approve or disapprove the proposed rule change, to May 5, 2020.⁴ On April 29, 2020, the Commission issued an order instituting proceedings under Section 19(b)(2)(B) of the Act ⁵ to determine whether to approve or disapprove the proposed rule change.⁶ The Commission received no comment letters regarding the proposed rule change.

¹ 15 U.S.C. 78s(b)(1).

² 17 CFR 240.19b-4.

³ See Securities Exchange Act Release No. 88100 (January 30, 2020), 85 FR 6624.

⁴ See Securities Exchange Act Release No. 88438, 85 FR 17138 (March 26, 2020).

⁵ 15 U.S.C. 78s(b)(2)(B).

⁶ See Securities Exchange Act Release No. 88770, 85 FR 26764 (May 5, 2020).

On June 18, 2020, the Exchange withdrew the proposed rule change (SR-CboeBYX-2020-005).

For the Commission, by the Division of Trading and Markets, pursuant to delegated authority.⁷

⁷ 17 CFR 200.30-3(a)(12).

J. Matthew DeLesDernier,
Assistant Secretary.

[FR Doc. 2020-15115 Filed 7-13-20; 8:45 am]

BILLING CODE 8011-01-P